Proclamation 10547 of March 31, 2023

National Public Health Week, 2023

By the President of the United States of America

A Proclamation

The field of public health is grounded in the fundamental truth that we are all in this together—that our health is connected and we are stronger as a Nation when we work together to lift everyone's well-being. During National Public Health Week, we celebrate the life-saving work that our public health professionals do to keep Americans healthy and safe.

All of America has seen the importance of public health during the past 3 years. The pandemic shut down our businesses, closed our schools, and robbed us of so much, including the lives of over one million Americans. While the virus is not gone, we have made enormous progress, and it no longer controls our lives. More than 230 million Americans are fully vaccinated. COVID deaths are down more than 90 percent. Schools and businesses are open and thriving. And these gains are thanks in large part to the absolute courage and commitment of everyone who contributes to protecting our public health—including first responders and social workers, scientists and researchers, doctors and nurses, and so many others.

Public health professionals have been shaping our country for the better since long before COVID arose. From expanding access to immunizations and improving safety standards for food, traffic, and the workplace, to advocating for cleaner air and water, public health professionals have improved the lives of all Americans and made our country stronger, healthier, and more prosperous.

Looking ahead, there is so much more to do to end health disparities, keep advancing science, and improve the health and well-being of all Americans. That starts by making sure everyone has access to quality health care. Under my Administration, we have expanded coverage through the Affordable Care Act, making it cheaper and easier to sign up and saving millions of families $800 a year. Through the American Rescue Plan, we invested $7.6 billion in community health centers, and my latest budget would put us on a path to doubling the size of the Health Center Program, which funds care in underserved areas. We are also bringing down the cost of life-saving drugs like insulin and investing in next-generation breakthroughs to prevent, diagnose, and treat deadly diseases like cancer through the new Advanced Research Projects Agency for Health.

To take on the public health epidemic of gun violence, we passed the most significant gun safety law in three decades, which includes enhanced background checks for individuals under age 21, and funding for red flag laws that can help keep guns from people who are a danger to themselves and others. The law also makes historic investments in mental health, and it complements the launch of the 9-8-8 National Suicide & Crisis Lifeline and additional work to protect kids online. Additionally, I reauthorized the landmark Violence Against Women Act that I first wrote in 1990 and expanded protections for survivors of domestic violence. And we are fighting the opioid epidemic by cracking down on fentanyl trafficking; pushing for tougher penalties for suppliers; and expanding access to life-saving naloxone, treatment, and recovery services.

We have also made the biggest-ever investment in fighting the public health threat represented by the climate crisis. Our Justice40 Initiative works to ensure that 40 percent of our clean energy investments flow to disadvantaged communities that have so often borne the brunt, including the health consequences, of environmental damage. The Bipartisan Infrastructure Law is replacing poisonous lead pipes that go into 10 million homes and 400,000 schools and child care centers so that every child in America can turn on the faucet and drink clean water.

And we have released a national strategy to end hunger and reduce diet-related diseases like diabetes and obesity. The strategy provides millions of students with free, nutritious school meals and helps Americans exercise and make healthy choices in the foods they eat. We are also supporting people who want to quit smoking, and the Food and Drug Administration has proposed rules to ban menthol cigarettes and flavored cigars, which could save hundreds of thousands of lives.

Since the Supreme Court's extreme decision to strip women of their fundamental right to choose, I have also taken urgent executive action to safeguard emergency care and protect patients' privacy. The Congress must act now to codify the protections of Roe v. Wade into law so women in every State have the right to make their own health care decisions. At the same time, my Administration is also working to end the maternal health crisis that leaves Black and Native American women up to three times more likely than white women to die during pregnancy.

These are all vital public health issues. Their range reminds us how connected our health is to the health of others. That is why the United States has continued to lead on global health challenges like HIV/AIDS, tuberculosis, and malaria, as well as COVID. Working with the G20 and other partners, we created the Pandemic Fund to strengthen global pandemic preparedness, prevention, and response. And at home, we invested over $7 billion into strengthening the capacity of State and local public health departments to respond to future public health crises—including by launching the new Public Health AmeriCorps to train a strong, diverse public health workforce for the future.

As we look ahead, we have a choice to make. We can repeat the mistakes of the past that left us vulnerable to public health crises like COVID, or we can seize the opportunity to better prepare ourselves for the future and build a stronger public health system in every community nationwide. Let's choose to move forward, celebrating our dedicated public health professionals and making America more healthy, resilient, and just.

NOW, THEREFORE, I, JOSEPH R. BIDEN JR., President of the United States of America, by virtue of the authority vested in me by the Constitution and the laws of the United States, do hereby proclaim April 3 through April 9, 2023, as National Public Health Week. I call on all citizens, government agencies, private businesses, nonprofit organizations, and other groups to take action to improve the health of our Nation.

IN WITNESS WHEREOF, I have hereunto set my hand this thirty-first day of March, in the year of our Lord two thousand twenty-three, and of the Independence of the United States of America the two hundred and forty-seventh.

[FR Doc. 2023-07316

Filed 4-4-23; 11:15 am]

Billing code 3395-F3-P